NATIONAL LABOR RELATIONS BOARD

Sunshine Act Meetings: November 2010

Time and Dates

All meetings are held at 2:30 p.m.:

Monday, November 1;

Tuesday, November 9;

Wednesday, November 10;

Tuesday, November 16;

Wednesday, November 17;

Thursday, November 18;

Tuesday, November 23;

Tuesday, November 30.

PLACE: Board Agenda Room, No. 11820, 1099 14th St., NW., Washington DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

CONTACT PERSON FOR MORE INFORMATION: Lester A. Heltzer, Executive Secretary, (202) 273-1067.

Dated: November 2, 2010.
Lester A. Heltzer,
Executive Secretary.

[FR Doc. 2010-28052 Filed 11-2-10; 4:15 pm]

BILLING CODE 7545-01-P